DEPARTMENT OF DEFENSE

Department of the Air Force

[Docket ID: USAF-2013-0018]

Submission for OMB Review; Comment Request

ACTION: Notice.

SUMMARY: The Department of Defense has submitted to OMB for clearance, the following proposal for collection of information under the provisions of the Paperwork Reduction Act (44 U.S.C. Chapter 35).

DATES: Consideration will be given to all comments received by July 7, 2014.

FOR FURTHER INFORMATION CONTACT: Fred Licari, 571-372-0493.

SUPPLEMENTARY INFORMATION:

Title, Associated Form And OMB Number: Air Force Safety Automated System (AFSAS); OMB Control Number 0701-XXXX.

Type Of Request: New Collection

Number of Respondents: 200

Responses per Respondent: 1

Annual Responses: 200

Average Burden per Response: 1 hour

Annual Burden Hours: 200

Needs And Uses: Information collected in the AFSAS includes individuals determined to be a factor in an Air Force (AF) or Department of Defense (DoD) mishap. The system meets DoD Instruction 6055.1 series reporting requirements governing aviation, space, weapons, and ground safety. Data collection includes personnel who are involved in a DoD related mishap, or experience an injury, illness or exposure while on a military installation or other areas under military control. It also includes personnel who operate a motorcycle on or off duty and personnel who operate a motorcycle on or off a DoD installation when in a duty status on official business. Data are used for analysis of safety risk and for prevention of mishaps.

Affected Public: Individuals or Households

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: May 29, 2014.
Aaron Siegel,
Alternate OSD Federal Register, Liaison Officer, Department of Defense.

[FR Doc. 2014-12846 Filed 6-3-14; 8:45 am]

BILLING CODE 5001-06-P